DEPARTMENT OF ENERGY

Federal Energy Regulatory Commission

Notice of Commissioner and Staff Attendance at the National Association of Regulatory Utility Commissioners 2014 Winter Committee Meeting

The Federal Energy Regulatory Commission (FERC or Commission) hereby gives notice that members of the Commission and/or Commission staff may attend the following meeting:

FERC/National Association of Regulatory Utility Commissioners (NARUC), Sunday Morning Collaborative: “Resource Adequacy A Problem that Needs Fixing or a Solution in Search of a Problem?” February 9, 2014, Renaissance Washington Hotel, 999 Ninth Street NW., Washington, DC 20001

Further information may be found at http://winter.narucmeetings.org/program.cfm

The discussion at this meeting, which is open to the public, may address matters at issue in the following Commission proceedings:

Docket No. AD14-3-000, Coordination Across the Midcontinent Independent System Operator, Inc./PJM Interconnection, LLC Seam,

Docket No. ER11-4081, Midwest Independent Transmission System Operator, Inc.

Docket No. ER14-801, Midcontinent Independent System Operator, Inc.

Docket No. EL13-76, AmerenEnergy Resources Generating Company v. Midcontinent Independent System Operator, Inc.

Docket No. ER13-1962, Midcontinent Independent System Operator, Inc.

Docket No. ER13-1963, Midcontinent Independent System Operator, Inc.

Docket No. ER14-292, Midcontinent Independent System Operator, Inc.

Docket No. ER14-294, Midcontinent Independent System Operator, Inc.

Docket No. ER12-2302, Midwest Independent Transmission System Operator, Inc.

Docket No. ER13-1695, Midcontinent Independent System Operator, Inc.

Docket No. ER13-1699, Midcontinent Independent System Operator, Inc.

Docket No. ER14-1210, Midcontinent Independent System Operator, Inc.

Docket No. ER14-1212, Midcontinent Independent System Operator, Inc.

Docket No. ER14-1242, Midcontinent Independent System Operator, Inc.

Docket No. ER14-1243, Midcontinent Independent System Operator, Inc.

Docket No. AD13-5-000, Flexible and Local Resources Needed for Reliability in the California Wholesale Electric Market

Dated: February 4, 2014.
Kimberly D. Bose,
Secretary.

[FR Doc. 2014-02927 Filed 2-10-14; 8:45 am]

BILLING CODE 6717-01-P